DEPARTMENT OF HEALTH AND HUMAN SERVICES

Centers for Disease Control and Prevention

Injury Research Grant Review Committee: Meeting

In accordance with section 10(a)(2) of the Federal Advisory Committee Act (Pub. L. 92-463), the Centers for Disease Control and Prevention (CDC) announces the following committee meeting.

Name: Injury Research Grant Review Committee (IRGRC).

Times and Dates: 6:30 p.m.-9:30 p.m., July 28, 2002. 8 a.m.-4:30 p.m., July 29, 2002.

Place: The Westin Atlanta Airport, 4736 Best Road, College Park, Georgia 30337.

Status: Open: 6:30 p.m.-7 p.m., July 28, 2002. Closed: 7 p.m.-9:30 p.m., July 28, 2002, through 4:30 p.m., July 29, 2002.

Purpose: This committee is charged with providing advice and guidance to the Secretary of Health and Human Services and the Director, CDC, regarding the scientific and technical merit of grant and cooperative agreement applications received from academic institutions and other public and private profit and nonprofit organizations, including State and local government agencies, to conduct specific injury research that focuses on prevention and control and supports injury control research centers.

Matters to be Discussed: Agenda items include a budget update, recent awards, discussion of the review process and panelists responsibilities, and review of grant applications. Beginning at 7 p.m., July 28, through 4:30 p.m., July 29, the Committee will review individual research grant applications submitted in response to Program Announcements #02040, Violence-Related Injury Prevention Research; #02041, Traumatic Injury Biomechanics Research; #02126, Dissemination Research of Effective Interventions to Prevent Unintentional Injuries; and #02127, Acute Care, Rehabilitation and Disability Prevention Research; and discuss an injury control research center grant application. This portion of the meeting will be closed to the public in accordance with provisions set forth in section 552b(c)(4) and (6), title 5 U.S.C., and the Determination of the Acting Director, Management Analysis and Services Office, CDC, pursuant to Public Law 92-463.

Agenda items are subject to change as priorities dictate.

Contact Person for More Information: Richard W. Sattin, M.D., Acting Executive Secretary, IRGRC, National Center for Injury Prevention and Control, CDC, 4770 Buford Highway, NE, M/S K58, Atlanta, Georgia 30341-3724, telephone 770/488-1658.

The Director, Management Analysis and Services Office, has been delegated the authority to sign Federal Register notices pertaining to announcements of meetings and other committee management activities for both CDC and ATSDR.

Dated: July 1, 2002.
John Burckhardt,
Acting Director, Management Analysis and Services Office, Centers for Disease Control and Prevention.

[FR Doc. 02-17163 Filed 7-8-02; 8:45 am]

BILLING CODE 4163-18-P